DEPARTMENT OF ENERGY

Federal Energy Regulatory Commission

[Project No. 6115-016]

Pyrites Hydro, LLC; Notice Soliciting Scoping Comments

Take notice that the following hydroelectric application has been filed with the Commission and is available for public inspection.

a. Type of Application: New Major License.

b. Project No.: 6115-016.

c. Date filed: August 31, 2021.

d. Applicant: Pyrites Hydro, LLC (Pyrites Hydro).

e. Name of Project: Pyrites Hydroelectric Project (Pyrites Project or project).

f. Location: The existing project is located on the Grass River near the Town of Canton, St. Lawrence County, New York. The project does not occupy any federal land.

g. Filed Pursuant to: Federal Power Act, 16 U.S.C. 791(a)-825(r).

h. Applicant Contact: Mr. Kevin M. Webb, Hydro Licensing Manager, Pyrites Hydro, LLC, 670 N Commercial Street, Suite 204, Manchester, NH 03101, (978) 935-6039; email—kwebb@centralriverspower.com.

i. FERC Contact: Chris Millard at (202) 502-8256; or email at christopher.millard@ferc.gov.

j. Deadline for filing scoping comments: November 12, 2022.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U.S. Postal Service to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Pyrites Hydroelectric Project (P-6115-016).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The project consists of: (1) a 170-foot-long and 12-foot-high concrete Ambursen overflow spillway dam with 1.5-foot-high flashboards, a 115-foot-long concrete auxiliary spillway, and a 208-foot-long non-overflow intake dam, which includes a 50-foot-wide intake structure; (2) a 6-foot-diameter, 700-foot-long steel penstock running from the intake structure to an upper powerhouse and a 10-foot-diameter, 2,160-foot-long penstock running from the intake structure to a lower powerhouse; (3) a 21-foot by 31-foot upper powerhouse located 700 feet downstream of the intake structure containing one 1.2-megawatt (MW) turbine/generator unit operating under a rated head of 76 feet and a 50-foot by 53-foot lower powerhouse located 1,200 feet downstream of the upper powerhouse tailrace containing two 3.5-MW turbine/generator units operating under a rated head of 111 feet; (4) a 405-foot-long, 20-foot-wide tailrace; (5) a 50-foot by 97-foot, 115/4.16/2.3-kilovolt (kV) switchyard and substation for use by both powerhouses; (6) a 470-foot-long 2.3-kV transmission line connecting the upper powerhouse to the switchyard; (7) a 1,150-foot-long 4.16-kV transmission line connecting the lower powerhouse to the switchyard; and (8) appurtenant facilities.

The project is operated in a run-of-river mode, whereby outflow from the project approximates inflow. The lower powerhouse is operated in an automatic control mode using water level transducers to maintain normal impoundment elevation at the flashboard crest (i.e., 484.8 feet).¹ The upper powerhouse is manually operated and serves as a backup to the lower powerhouse when inflows exceed the hydraulic capacity of the lower powerhouse (i.e., 860 cubic feet per second [cfs]).² The minimum and maximum hydraulic capacities of the project are 232 cfs and 1,090 cfs, respectively.

¹ Elevation data are presented using the National Geodetic Vertical Datum of 1929 (NGVD29).

² Pyrites Hydro estimates that the upper powerhouse operates about 16% of the time on an annual basis.

A continuous minimum flow of 45 cfs or inflow, whichever is less, is passed into the bypassed reach. The minimum flow comprises 30 cfs at the spillway and 15 cfs of leakage flow from the upper powerhouse. Project operation ceases when inflow falls below the project's minimum hydraulic capacity and all flow is passed via a minimum flow weir ³ and/or over the project spillway. From 2010 to 2020, the project generated an average of 27,865 megawatt-hours annually.

³ The 8-foot-wide by 1.5-foot-deep minimum flow weir is located at the north end of the spillway dam.

m. In addition to publishing the full text of this notice in the Federal Register, the Commission provides all interested persons an opportunity to view and/or print the contents of this notice, as well as other documents in the proceeding (e.g., scoping document) via the internet through the Commission's Home Page (http://www.ferc.gov) using the “eLibrary” link. Enter the docket number, excluding the last three digits, in the docket number field to access the document (P-6115). For assistance, contact FERC at FERCOnlineSupport@ferc.gov or call toll-free, (866) 208-3676 or TYY, (202) 502-8659.

n. You may also register online at http://www.ferc.gov/docs-filing/esubscription.asp to be notified via email of new filings and issuances related to this or other pending projects. For assistance, contact FERC Online Support.

o. Scoping Process: Commission staff will prepare either an environmental assessment (EA) or an environmental impact statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued October 13, 2022.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: October 13, 2022.
Kimberly D. Bose,
Secretary.

[FR Doc. 2022-22769 Filed 10-19-22; 8:45 am]

BILLING CODE 6717-01-P